DEPARTMENT OF DEFENSE

GENERAL SERVICES ADMINISTRATION

NATIONAL AERONAUTICS AND SPACE ADMINISTRATION

48 CFR Parts 1, 16, 22, and 52

[FAC 2005-60; Item VI; Docket 2012-0079; Sequence 3]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: July 26, 2012.

FOR FURTHER INFORMATION CONTACT: The Regulatory Secretariat, 1275 First Street NE., 7th Floor, Washington, DC 20417, 202-501-4755, for information pertaining to status or publication schedules. Please cite FAC 2005-60, Technical Amendments.

SUPPLEMENTARY INFORMATION: In order to update certain elements in 48 CFR parts 1, 16, 22, and 52, this document makes editorial changes to the FAR.

List of Subjects in 48 CFR Parts 1, 16, 22, and 52

Government procurement.

Dated: July 16, 2012.
Laura Auletta,
Director, Office of Governmentwide Acquisition Policy, Office of Acquisition Policy, Office of Governmentwide Policy.

Therefore, DoD, GSA, and NASA amend 48 CFR parts 1, 16, 22, and 52 as set forth below:

1. The authority citation for 48 CFR parts 1, 16, 22, and 52 is revised to read as follows:

Authority: 40 U.S.C. 121(c); 10 U.S.C. chapter 137; and 51 U.S.C. 20113.

PART 1—FEDERAL ACQUISITION REGULATIONS SYSTEM

1.105-2 [Amended]

2. Amend section 1.105-2 by revising paragraphs (c)(3)(i) and (ii) to read as follows:

1.105-2 Arrangement of regulations.

* * * * *

(c) * * *

(3) * * *

(i) Part would be “FAR part 9” outside the FAR and “part 9” within the FAR.

(ii) Subpart would be “FAR subpart 9.1” outside the FAR and “subpart 9.1” within the FAR.

* * * * *

PART 16—TYPES OF CONTRACTS

16.301-3 [Amended]

3. Amend section 16.301-3 by removing from paragraph (a)(4) “other that firm-fixed-priced” and adding “other than firm-fixed-priced” in its place.

PART 22—APPLICATION OF LABOR LAWS TO GOVERNMENT ACQUISITIONS

22.1801 [Amended]

4. Amend section 22.1801 by—

a. Removing from the definition “Employee assigned to the contract”, “November 6, 1986” and adding “November 6, 1986 (after November 27, 2009, in the Commonwealth of the Northern Mariana Islands)” in its place; and

b. Removing from the definition “United States”, “Guam,” and adding “Guam, the Commonwealth of the Northern Mariana Islands” in its place.

22.1802 [Amended]

5. Amend section 22.1802 by removing from paragraph (c) “November 6, 1986” and adding “November 6, 1986 (after November 27, 2009, in the Commonwealth of the Northern Mariana Islands)” in its place.

PART 52—SOLICITATION PROVISIONS AND CONTRACT CLAUSES

52.212-5 [Amended]

6. Amend section 52.212-5 by—

a. Removing from the clause heading “(May 2012)” and adding “(JUL 2012)” in its place; and

b. Removing from paragraphs (b)(34) and (e)(1)(xii) “(Jan 2009)” and adding “(JUL 2012)” in their places; and

c. Removing from the introductory paragraph of Alternate II “(Dec 2010)” and adding “(JUL 2012)” in its place; and

d. Removing from Alternate II, in paragraph (e)(1)(ii)(L) “(Jan 2009)” and adding “(JUL 2012)” in its place.

52.215-20 [Amended]

7. Amend section 52.215-20 by removing from the introductory paragraph of Alternate I “15.408(1)” and adding “15.408(l)” in its place.

8. Amend section 52.222-54 by—

a. Revising the date of the clause;

b. Amending paragraph (a) by—

i. In the definition “Employee assigned to the contract”, in the introductory text, removing “November 6, 1986” and adding “November 6, 1986 (after November 27, 2009, in the Commonwealth of the Northern Mariana Islands)” in its place; and

ii. Removing from the definition “United States”, “Guam,” and adding “Guam, the Commonwealth of the Northern Mariana Islands” in its place; and

c. Revising paragraph of (b)(4) introductory text.

The revisions read as follows:

52.222-54 Employment Eligibility Verification.

* * * * *

Employment Eligibility Verification (JUL 2012)

* * * * *

(b) * * *

(4) Option to verify employment eligibility of all employees. The Contractor may elect to verify all existing employees hired after November 6, 1986 (after November 27, 2009, in the Commonwealth of the Northern Mariana Islands), rather than just those employees assigned to the contract. The Contractor shall initiate verification for each existing employee working in the United States who was hired after November 6, 1986 (after November 27, 2009, in the Commonwealth of the Northern Mariana Islands), within 180 calendar days of—

* * * * *

9. Amend section 52.223-2 by revising the date of the clause and paragraph (b); and removing from paragraph (c)(3) “contract to” and adding “contact to” in its place. The revised text reads as follows:

52.223-2 Affirmative Procurement of Biobased Products Under Service and Construction Contracts.

* * * * *

Affirmative Procurement of Biobased Products Under Service and Construction Contracts (JUL 2012)

* * * * *

(b) Information about this requirement and these products is available at http://www.biopreferred.gov.

* * * * *

[FR Doc. 2012-17739 Filed 7-25-12; 8:45 am]

BILLING CODE 6820-EP-P